FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 008005-011.

Title: New York Terminal Conference Agreement.

Parties: American Stevedoring Inc.; Port Newark Container Terminal LLC; Universal Maritime Service Corp.; GCT Bayonne LP; and GCT New York LP.

Filing Party: George J. Lair, New York Terminal Conference, P.O. Box 875, Chatham, NJ 07928.

Synopsis: The amendment changes the name of Global Terminal and Container Services, LLC to GCT Bayonne LP, and the name of New York Container Terminal, LLC to GCT New York LP.

Agreement No.: 012293-002.

Title: Maersk/MSC Vessel Sharing Agreement.

Parties: A.P. Moller-Maersk A/S trading under the name of Maersk Line; and MSC Mediterranean Shipping Company S.A.

Filing Party: Wayne Rohde, Esq., Cozen O'Connor, 1627 I Street NW., Suite 1100, Washington, DC 20006.

Synopsis: The amendment would add United Arab Emirates to the geographic scope of the agreement.

Agreement No.: 012300.

Title: The COSCON/KL/YMUK/Hanjin/ELJSA Slot Allocation and Sailing Agreement.

Parties: COSCO Container Lines Company, Limited; Kawasaki Kisen kaisha, Ltd.; Yang Ming (UK) Ltd.; Hanjin Shipping Co., Ltd.; and Evergreen Line Joint Service Agreement.

Filing Party: Eric. C. Jeffrey, Esq., Nixon Peabody LLP, 401 9th Street NW., Suite 900, Washington, DC 20004.

Synopsis: The agreement would authorize the parties to share and coordinate sailings and space in the trade between the United States, on the one hand, and North Asia, South Asia, Middle East (including the Persian Gulf region), Northern Europe, Mediterranean, Egypt, Panama, Mexico, Jamaica, and Canada, on the other hand.

Agreement No.: 200955-003.

Title: GCT New York/GCT Bayonne Agreement.

Parties: Global Terminal & Container Services, LLC. and New York Container Terminal, LLC.

Filing Party: Carol N. Lambos, Esq., The Lambos Firm, LLP, 303 South Broadway, Suite 410, Tarrytown, NY 10591.

Synopsis: The amendment changes the name of New York Container Terminal, LLC to GCT New York LP and Global Terminal and Container Services, LLC to GCT Bayonne LP. The amendment also changes the name of the agreement to reflect the name changes.

Agreement No.: 201222-001.

Title: Port of Seattle/Port of Tacoma Rate Discussion Agreement.

Parties: Port of Seattle and Port of Tacoma.

Filing Party: Thomas H. Tanaka, Senior Port Counsel, Port of Seattle, 2711 Alaskan Way, Seattle, WA 98121; and Carolyn Lake, Port General Legal Counsel, Port of Tacoma, 501 South G Street, Tacoma, WA 98405.

Synopsis: The Agreement would allow for the establishment of a seaport alliance.

By Order of the Federal Maritime Commission.
Dated: October 24, 2014.
Rachel E. Dickon,
Assistant Secretary.

[FR Doc. 2014-25715 Filed 10-28-14; 8:45 am]

BILLING CODE 6730-01-P